FEDERAL COMMUNICATIONS COMMISSION

47 CFR Part 64

[CG Docket No. 04-208; DA 04-1820]

National Association of State Utility Consumer Advocates' (NASUCA) Petition for Declaratory Ruling Regarding Truth-in-Billing

AGENCY: Federal Communications Commission.

ACTION: Proposed rule; extension of comment period.

SUMMARY: In this document, the Consumer and Governmental Affairs Bureau grants a limited extension of the deadline for filing reply comments in CG Docket 04-208 on or before August 13, 2004, seeking comment on the NASUCA petition for declaratory ruling regarding truth-in-billing and billing formats for both wireline and wireless telecommunication carriers.

DATES: Comments are due on or before July 14, 2004, and reply comments are due on or before August 13, 2004.

ADDRESSES: Federal Communications Commission, 445 12th Street, SW., Washington, DC 20554.

FOR FURTHER INFORMATION CONTACT: Ruth Yodaiken or Kelli Farmer of the Consumer & Governmental Affairs Bureau at (202) 418-2512.

SUPPLEMENTARY INFORMATION: This is a summary of the Commission's Order DA 04-1820, adopted June 23, 2004, and released June 24, 2004. When filing comments, please reference CG Docket No. 04-208. Pursuant to 47 CFR 1.415, 1.419, interested parties may file comments on or before July 14, 2004, and reply comments on or before August 13, 2004. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/efile/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Service mail (although we continue to experience delays in receiving U.S. Postal Service mail). The Commission's contractor, Natek Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission, 445 12th Street, SW., Room TW-B204, Washington, DC 20554. Parties who choose to file comments by paper should also submit their comments on diskette. These diskettes should be submitted to Kelli Farmer, Consumer & Governmental Affairs Bureau, Policy Division, 445 12th Street, SW., Rm 4-C734, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CG Docket No 04-208), type of pleading (comment or reply comment), date of submission, and the name of the electronic file on the diskette. The label should also include the following phrase “disk copy-not an original.” Each diskette should contain only one party's pleadings, preferably in a single electronic file. Copies of this document are available through the Commission's copy contractor Best Copy and Printing Inc. (BCPI), Portals II, 445 12th Street, SW., Room CY-B402, Washington, DC 20554. Customers may also contact BCPI at their Web site: http://www.bcpiweb.com or call 1-800-378-3160.

To request materials in accessible formats for people with disabilities (Braille, large print, electronic files, audio format), send an e-mail to fcc504@fcc.gov or call the Consumer & Governmental Affairs Bureau at (202) 418-0530 (voice) or (202) 418-0432 (TTY). This Order can also be downloaded in Word and Portable Document Format (PDF) at http://www.fcc.gov/cgb/policy/truthinbill.html.

Synopsis

On May 25, 2004, the Commission released a Public Notice seeking comment on the National Association of State Utility Consumer Advocates' (NASUCA) petition for declaratory ruling regarding truth-in-billing and billing formats for both wireline and wireless telecommunications carriers. See Petition for Declaratory Ruling, CC Docket No. 98-170, filed March 30, 2004. The Public Notice stated that interested parties could file comments within 30 and 45 days respectively, after its publication in the Federal Register. See National Association of State Utility Consumer Advocates (NASUCA) Petition for Declaratory Ruling Regarding Truth-in-Billing and Billing Format, CG Docket No. 04-208, Public Notice, 69 FR 33021, June 14, 2004. The Public Notice was published in the Federal Register on June 14, 2004, making comments due on or before July 14, 2004, and reply comments on or before July 29, 2004. Id. On June 11, 2004, the NASUCA filed a motion to extend the deadline for filing reply comments in this proceeding. See NASUCA Motion for Extension of Time, CG Docket No. 04-208 (filed June 11, 2004). In its pleading NASUCA requests an extension of time to file reply comments stating that “[i]n light of the important legal, economic and policy issues raised in NASUCA's petition and the volume of comments that are likely to be filed in response to that petition, the 15-day period allowed for in the Public Notice is simply not adequate to permit NASUCA and others to provide the Commission with a full reply joining the issues.” Id. at 2. NASUCA goes on to suggest that “a brief, 15-day extension will greatly facilitate the development of a complete record for the Commission's review.” Id. at 2. It is the policy of the Commission that extensions of time are not routinely granted. See 47 CFR 1.46(a). In this instance, however, the Bureau finds that NASUCA has shown good cause for an extension of the deadline for filing reply comments in this proceeding. Because of the complexity of the issues involved and the high number of comments expected to be filed, we grant a limited extension so that parties may file reply comments in this docket on or before August 13, 2004.

Accordingly, it is so ordered, pursuant to the authority delegated under section 0.141 of the Commission's rules, 47 CFR 0.141, that NASUCA's Motion for Extension of Time in the above-captioned proceeding is granted to the extent set forth herein.

Federal Communications Commission.
Thomas D. Wyatt,
Deputy Chief, Consumer & Governmental Affairs Bureau.

[FR Doc. 04-16088 Filed 7-13-04; 8:45 am]

BILLING CODE 6712-01-P